DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 30307-30308, dated May 16, 2016) is amended to reflect the reorganization of the Office of the Director, Centers for Disease Control and Prevention.

Section C-B, Organization and Functions, is hereby amended as follows:

After the title and the mission and function statements for the Office of the Associate Director for Laboratory Science and Safety (CAC) insert the following:

Office of the Director (CAC1). (1) Provides scientific, technical, and managerial expertise and leadership in the development and enhancement of laboratory science and safety programs; (2) oversees and monitors the development, implementation, and evaluation of the laboratory safety and quality management programs across CDC; (3) advises on policy, partnerships, and issues management matters; (4) advises on matters related to internal and external public health communications; (5) provides oversight to ensure CDC compliance with regulations for select agents and toxins, and the safe possession, use and transfer of select agents and toxins; and (6) leads responses to laboratory incidents and emergencies.

Office of Laboratory Science (CACB). (1) Provides high-level oversight and coordination of laboratory quality and safety training programs at all CDC campuses; (2) develops agency-level plans, policies, procedures and guidelines for implementation of quality management programs within Centers, Institute, and Offices (CIOs); (3) assures regulatory compliance and tracking for CDC's portfolio of laboratory developed tests; and (4) provides oversight of the catalog of laboratory safety training activities and tracking agency-wide progress and compliance with laboratory safety training requirements.

Office of Laboratory Safety (CACC). (1) Provides high-level oversight and coordination of laboratory safety at all CDC campuses; (2) develops and assures effectiveness of agency-level plans, policies, manuals and tools for implementation of laboratory safety standards; (3) assures regulatory compliance for biological safety, chemical safety, radiation safety and the possession, use and transport of select agents and toxins; and (4) provides expertise and consultation for biological safety, chemical safety and radiation safety.

Sherri Berger,
Chief Operating Officer, Centers for Disease Control and Prevention.

[FR Doc. 2016-16884 Filed 7-15-16; 8:45 am]

BILLING CODE 4160-18-P